DEPARTMENT OF STATE

[Public Notice 11806]

Notice of Public Meeting in Preparation for the International Maritime Organization CCC 8 Meeting

The Department of State will conduct a public meeting at 1:00 p.m. on Tuesday, August 30, 2022, by way of teleconference. The primary purpose of the meeting is to prepare for the eighth session of the International Maritime Organization's (IMO) Sub-Committee on Carriage of Cargoes and Containers (CCC 8) to be held at the IMO Headquarters in London, United Kingdom from Wednesday, September 14, 2022 to Friday, September 23, 2022.

Members of the public may participate up to the capacity of the teleconference phone line, which can handle 500 participants. To attain details on the teleconference line, participants should contact the meeting coordinator, Dr. Amy Parker, by email at Amy.M.Parker@uscg.mil.

The agenda items to be considered at the public meeting mirror those to be considered at CCC 8, and include:

—Adoption of the agenda;

—Decisions of other IMO bodies;

—Amendments to the IGF Code and development of guidelines for low-flashpoint fuels;

—Amendments to the IGC and IGF Codes to include high manganese austenitic steel and related guidance for approving alternative metallic material for cryogenic service;

—Amendments to the IMSBC Code and supplements;

—Amendments to the IMDG Code and supplements;

—Amendments to the International Code for the Safe Carriage of Grain in Bulk (resolution MSC.23(59)) to introduce a new class of loading conditions for special compartments;

—Revision of the Revised recommendations for entering enclosed spaces aboard ships (resolution A.1050(27));

—Consideration of reports of incidents involving dangerous goods or marine pollutants in packaged form on board ships or in port areas;

—Review of the IGC Code;

—Development of measures regarding the detection and mandatory reporting of containers lost at sea that may enhance the positioning, tracking and recovery of such containers;

—Unified interpretation of provisions of IMO safety, security, and environment-related conventions;

—Development of guidelines for the safety of ships using ammonia as fuel;

—Revision of the Interim recommendations for carriage of liquefied hydrogen in bulk;

—Biennial status report and provisional agenda for CCC 9;

—Election of Chair and Vice-Chair for 2023;

—Any other business; and

—Report to the Committees.

Those who plan to participate may contact the meeting coordinator, Dr. Amy Parker, by email at Amy.M.Parker@uscg.mil, by phone at (202) 372-1423, or in writing at 2703 Martin Luther King Jr. Ave. SE, Stop 7509, Washington, DC 20593-7509. Members of the public needing reasonable accommodation should advise Dr. Parker not later than August 16, 2022. Requests made after that date will be considered, but might not be possible to fulfill.

Additional information regarding this and other IMO public meetings may be found at: https://www.dco.uscg.mil/IMO.

(Authority: 22 U.S.C. 2656.)

Emily A. Rose,
Coast Guard Liaison Officer, Office of Ocean and Polar Affairs, Department of State.

[FR Doc. 2022-16924 Filed 8-5-22; 8:45 am]

BILLING CODE 4710-09-P